DEPARTMENT OF EDUCATION

Office of the Secretary

34 CFR Subtitles A and B

Unified Agenda of Federal Regulatory and Deregulatory Actions

AGENCY: Office of the Secretary, Department of Education.

ACTION: Semiannual regulatory agenda.

SUMMARY: The Secretary of Education publishes a semiannual agenda of Federal regulatory and deregulatory actions. The agenda is issued under the authority of section 4(b) of Executive Order 12866 “Regulatory Planning and Review.” The purpose of the agenda is to encourage more effective public participation in the regulatory process by providing the public with early information about regulatory actions we plan to take.

FOR FURTHER INFORMATION CONTACT: Questions or comments related to specific regulations listed in this agenda should be directed to the agency contact listed for the regulations. Other questions or comments on this agenda should be directed to LaTanya Cannady, Program Specialist or Hilary Malawer, Deputy Assistant General Counsel, Division of Regulatory Services, Office of the General Counsel, Department of Education, Room 6C131, 400 Maryland Avenue SW., Washington, DC 20202-2241; telephone: (202) 401-9676 (LaTanya Cannady) or (202) 401-6148 (Hilary Malawer). Individuals who use a telecommunications device for the deaf (TDD) or a text telephone (TTY) may call the Federal Relay Service (FRS) at 1-800-877-8339.

SUPPLEMENTARY INFORMATION: Section 4(b) of Executive Order 12866, dated September 30, 1993, requires the Department of Education (ED) to publish, at a time and in a manner specified by the Administrator of the Office of Information and Regulatory Affairs, Office of Management and Budget, an agenda of all regulations under development or review. The Regulatory Flexibility Act, 5 U.S.C. 602(a), requires ED to publish, in October and April of each year, a regulatory flexibility agenda.

The regulatory flexibility agenda may be combined with any other agenda that satisfies the statutory requirements (5 U.S.C. 605(a)). In compliance with the Executive Order and the Regulatory Flexibility Act, the Secretary publishes this agenda.

For each set of regulations listed, the agenda provides the title of the document, the type of document, a citation to any rulemaking or other action taken since publication of the most recent agenda, and planned dates of future rulemaking. In addition, the agenda provides the following information:

• An abstract that includes a description of the problem to be addressed, any principal alternatives being considered, and potential costs and benefits of the action.

• An indication of whether the planned action is likely to have significant economic impact on a substantial number of small entities as defined by the Regulatory Flexibility Act (5 U.S.C. 601(6)).

• A reference to where a reader can find the current regulations in the Code of Federal Regulations.

• A citation of legal authority.

• The name, address, and telephone number of the contact person at ED from whom a reader can obtain additional information regarding the planned action.

In accordance with ED's Principles for Regulating listed in its regulatory plan (77 FR 7940, published February 13, 2012), ED is committed to regulations that improve the quality of services to its customers. ED will regulate only if absolutely necessary and then in the most flexible, most equitable, least burdensome way possible.

Interested members of the public are invited to comment on any of the items listed in this agenda that they believe are not consistent with the Principles for Regulating. Members of the public are also invited to comment on any uncompleted actions in this agenda that ED plans to review under section 610 of the Regulatory Flexibility Act (5 U.S.C. 610) to determine their economic impact on small entities. ED has determined that none of the uncompleted actions in this agenda require review under section 610.

This publication does not impose any binding obligation on ED with regard to any specific item in the agenda. ED may elect not to pursue any of the regulatory actions listed here, and regulatory action in addition to the items listed is not precluded. Dates of future regulatory actions are subject to revision in subsequent agendas.

Electronic Access to This Document

The entire Unified Agenda is published electronically and is available online at www.reginfo.gov.

Philip Rosenfelt,
Deputy General Counsel, delegated the authority to perform the functions and duties of the General Counsel.

Office of Postsecondary Education—Final Rule Stage
Sequence No. | Title | Regulation Identifier No.
258 | Federal Pell Grant Program | 1840-AD11

DEPARTMENT OF EDUCATION (ED)

Office of Postsecondary Education (OPE)

Final Rule Stage

258. Federal Pell Grant Program

Legal Authority: Pub. L. 112-10

Abstract: The final regulations amend part 690 to implement changes to the Higher Education Act of 1965, as amended (HEA). Specifically, the regulations are amended to reflect the changes in the HEA that eliminate student eligibility for two Pell Grants in an award year.

Timetable:

Action | Date | FR Cite
Interim Final Rule | 05/02/12 | 77 FR 25893
Interim Final Rule Comment Period End | 06/18/12 |
Final Action | 02/00/13 |

Regulatory Flexibility Analysis Required: Yes.

Agency Contact: Jacquelyn Butler, Office of Postsecondary Education, Department of Education, Room 8053, 1990 K Street NW., Washington, DC 20006-8502, Phone: 202 502-7890, Email: jacquelyn.butler@ed.gov.

RIN: 1840-AD11

[FR Doc. 2012-31494 Filed 1-7-13; 8:45 am]

BILLING CODE 4000-01-P